DEPARTMENT OF HOMELAND SECURITY

Coast Guard

33 CFR Part 100

[Docket No. USCG-2023-0563]

Special Local Regulations; Marine Events Within the Fifth Coast Guard District—Atlantic City, NJ

AGENCY: Coast Guard, Department of Homeland Security (DHS).

ACTION: Notification of enforcement of regulation.

SUMMARY: The Coast Guard will enforce a special local regulation for the Atlantic City Triathlon on August 12, 2023, to provide for the safety of life on navigable waterways during this event. Our regulation for marine events within the Fifth Coast Guard District identifies the regulated area for this event in Atlantic City, NJ. During the enforcement periods, the operator of any vessel in the regulated area must comply with directions from the Patrol Commander or any Official Patrol displaying a Coast Guard ensign.

DATES: The regulations in 33 CFR 100.501 for Atlantic City, NJ, will be enforced for the regulated areas listed in table 1 to paragraph (i)(1) of § 100.501 for the Triathlons in Atlantic City from 6:30 a.m. to 10 a.m. on August 12, 2023.

FOR FURTHER INFORMATION CONTACT: If you have questions about this notification of enforcement, call or email Petty Officer Christopher Payne, U.S. Coast Guard, Sector Delaware Bay, Waterways Management Division, telephone: 215-271-4889, Email: SecDelBayWWM@uscg.mil.

SUPPLEMENTARY INFORMATION: The Coast Guard will enforce special local regulations in 33 CFR 100.501 for the Triathlons in Atlantic City regulated Area from 6:30 a.m. to 10 a.m. on August 12, 2023. This action is being taken to provide for the safety of life on navigable waterways during this event. Our regulation for marine events within the Fifth Coast Guard District, § 100.501, specifies the location of the regulated area for the Triathlons in Atlantic City which encompasses portions of the New Jersey Intracoastal Waterway. As reflected in § 100.501(d)(2), during the enforcement periods if you are the operator of a vessel in the regulated area you must comply with directions from the Patrol Commander or any Official Patrol displaying a Coast Guard ensign.

In addition to this notification of enforcement in the Federal Register, the Coast Guard plans to provide notification of this enforcement period via the Local Notice to Mariners, and marine information broadcasts.

Dated: July 24, 2023.
Kate F. Higgins-Bloom,
Captain, U.S. Coast Guard, Captain of the Port, Delaware Bay.

[FR Doc. 2023-17223 Filed 8-10-23; 8:45 am]

BILLING CODE 9110-04-P